DEPARTMENT OF TRANSPORTATION

Federal Motor Carrier Safety Administration

Fiscal Year 2010 Safety Grants

AGENCY: Federal Motor Carrier Safety Administration (FMCSA), DOT.

ACTION: Notice; correction.

SUMMARY: FMCSA is correcting a notice that appeared in the Federal Register on August 12, 2009 (74 FR 40638), which informed the public of FMCSA's Fiscal Year (FY) 2010 safety grant opportunities and FMCSA's changes to its application and award processes for grant programs.

FOR FURTHER INFORMATION CONTACT: For further information regarding this notice please contact, Ms. Theresa Rowlett at 202.366.6406. Staff may be reached at FMCSA, 1200 New Jersey Avenue, SE., Washington, DC 20590. Office hours are from 9 a.m. to 5 p.m., EST, Monday through Friday, except Federal holidays.

SUPPLEMENTARY INFORMATION: For FMCSA's FY 2010 Grants notice published on August 12, 2009 (74 FR 40638), the following corrections are made:

On page 40638, in the FOR FURTHER INFORMATION CONTACT section, the contact for the Commercial Vehicle Information Systems and Networks Grants (CVISN) is corrected from “CVISN Grants—Julie Lane, julie.lane@dot.gov, 202-385-2391” to “CVISN Grants—Quon Kwon, quon.kwan@dot.gov, 202-385-2389”.

On page 40638, in the FY 2010 Safety Grants Program section, the schedule for the New Entrant Safety Audit Grants and the Motor Carrier Safety Assistance Program (MCSAP) High Priority Grants is corrected from “New Entrant Safety Audit Grants—September 1, 2009, MCSAP High Priority Grants—October 15, 2009” to “New Entrant Safety Audit Grants—October 15, 2009, MCSAP High Priority Grants—September 15, 2009.”

Issued on August 24, 2009.
William A. Quade,
Associate Administrator for Enforcement and Program Delivery.

[FR Doc. E9-21019 Filed 8-31-09; 8:45 am]

BILLING CODE 4910-EX-P